NUCLEAR REGULATORY COMMISSION

[Docket No. 50-440]

Firstenergy Nuclear Operating Company; Notice of Withdrawal of Application for Amendment to Facility Operating License

The U.S. Nuclear Regulatory Commission (the Commission) has granted the request of FirstEnergy Nuclear Operating Company (the licensee), to withdraw its June 1, 2006, application for proposed amendment to Facility Operating License No. NPF-58 for the Perry Nuclear Power Plant, Unit No. 1, located in Lake County, Ohio.

The proposed amendment would have modified the facility technical specifications (TS) pertaining to TS 3.4.10, “Residual Heat Removal (RHR) Shutdown Cooling System—Cold Shutdown,” by adding a default Condition to address situations when an RHR Shutdown Cooling subsystem becomes inoperable in MODE 4 and, within the Completion Time of 1 hour, an alternate method of decay heat removal cannot be verified to be available.

The Commission had previously issued a Notice of Consideration of Issuance of Amendment published in the Federal Register on August 15, 2006 (71 FR 46935). However, by letter dated June 19, 2007, the licensee withdrew the proposed change.

For further details with respect to this action, see the application for amendment dated June 1, 2006, and the licensee's letter dated June 19, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 26th day of June 2007.
For the Nuclear Regulatory Commission.
Stephen P. Sands,
Project Manager, Plant Licensing Branch III-2, Division of Operating Reactor Licensing, Office of Nuclear Reactor Regulation.

[FR Doc. E7-12774 Filed 7-2-07; 8:45 am]

BILLING CODE 7590-01-P